DEPARTMENT OF ENERGY

Federal Regulatory Commission

[Docket No. RP99-301-013]

ANR Pipeline Company; Notice of Compliance Filing

February 14, 2001.

Take notice that, on January 19, 2001, ANR Pipeline Company (ANR) tendered for filing as part of its FERC Gas Tariff, Second Revised Volume No. 1, the following revised tariff sheets, to be effective August 28, 2000:

Second Revised Sheet No. 140

Original Sheet No. 140.1

Second Revised Sheet No. 14P

Original Sheet 14P.1

ANR states that this filing is made in compliance with the Commission's Order dated January 10, 2001 in Docket No. RP99-301-008.

ANR states that copies of the filing have been mailed to all affected customers and state regulatory commissions.

Any person desiring to protest said filing should file a protest with the Federal Energy Regulatory Commission, 888 First Street, N.E., Washington, D.C. 20426, in accordance with section 385.211 of the Commission's Rules and Regulations. All such protests must be filed on or before February 23, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-4199 Filed 2-20-01; 8:45 am]

BILLING CODE 6717-01-M